DEPARTMENT OF COMMERCE

International Trade Administration

Announcement of Approved International Trade Administration Trade Mission

AGENCY: International Trade Administration, Department of Commerce.

SUMMARY: The United States Department of Commerce, International Trade Administration (ITA), is announcing one upcoming trade mission that will be recruited, organized, and implemented by ITA. This mission is: Executive-Led Cybersecurity Business Development Mission to Taiwan, South Korea, and Japan—September 18-26, 2023. A summary of the mission is found below. Application information and more detailed mission information, including the commercial setting and sector information, can be found at the trade mission website: https://www.trade.gov/trade-missions. For this mission, recruitment will be conducted in an open and public manner, including publication in the Federal Register, posting on the Commerce Department trade mission calendar (https://www.trade.gov/trade-missions-schedule) and other internet websites, press releases to general and trade media, direct mail, broadcast fax, notices by industry trade associations and other multiplier groups, and publicity at industry meetings, symposia, conferences, and trade shows.

FOR FURTHER INFORMATION CONTACT: Jeffrey Odum, Events Management Task Force, International Trade Administration, U.S. Department of Commerce, 1401 Constitution Avenue NW, Washington, DC 20230; telephone (202) 482-6397 or email Jeffrey.Odum@trade.gov.

SUPPLEMENTARY INFORMATION:

The Following Conditions for Participation Will Be Used for the Mission

Applicants must submit a completed and signed mission application and supplemental application materials, including adequate information on their products and/or services, primary market objectives, and goals for participation that is adequate to allow the Department of Commerce to evaluate their application. If the Department of Commerce receives an incomplete application, the Department of Commerce may either: reject the application, request additional information/clarification, or take the lack of information into account when evaluating the application. If the requisite minimum number of participants is not selected for a particular mission by the recruitment deadline, the mission may be cancelled.

Each applicant must also certify that the products and services it seeks to export through the mission are either produced in the United States, or, if not, are marketed under the name of a U.S. firm and have at least fifty-one percent U.S. content by value. In the case of a trade association or organization, the applicant must certify that, for each firm or service provider to be represented by the association/organization, the products and/or services the represented firm or service provider seeks to export are either produced in the United States or, if not, marketed under the name of a U.S. firm and have at least 51% U.S. content by value.

A trade association/organization applicant must certify to the above for every company it seeks to represent on the mission. In addition, each applicant must:

• Certify that the products and services that it wishes to market through the mission would be in compliance with U.S. export controls and regulations;

• Certify that it has identified any matter pending before any bureau or office in the Department of Commerce;

• Certify that it has identified any pending litigation (including any administrative proceedings) to which it is a party that involves the Department of Commerce; and

• Sign and submit an agreement that it and its affiliates (1) have not and will not engage in the bribery of foreign officials in connection with a company's/participant's involvement in this mission, and (2) maintain and enforce a policy that prohibits the bribery of foreign officials.

In the case of a trade association/organization, the applicant must certify that each firm or service provider to be represented by the association/organization can make the above certifications.

The Following Selection Criteria Will Be Used for the Mission

Targeted mission participants are U.S. firms, services providers and trade associations/organizations providing or promoting U.S. products and services that have an interest in entering or expanding their business in the mission's destination markets. The following criteria will be evaluated in selecting participants:

• Suitability of the applicant's (or in the case of a trade association/organization, represented firm's or service provider's) products or services to these markets;

• The applicant's (or in the case of a trade association/organization, represented firm's or service provider's) potential for business in the markets, including likelihood of exports resulting from the mission; and

• Consistency of the applicant's (or in the case of a trade association/organization, represented firm's or service provider's) goals and objectives with the stated scope of the mission.

Balance of company size and location may also be considered during the review process.

Referrals from a political party or partisan political group or any information, including on the application, containing references to political contributions or other partisan political activities will be excluded from the application and will not be considered during the selection process. The applicant will be notified of these exclusions. The Department of Commerce will evaluate applications and inform applicants of selection decisions on a rolling basis until the maximum number of participants has been selected.

Trade Mission Participation Fees

If and when an applicant is selected to participate on a particular mission, a payment to the Department of Commerce in the amount of the designated participation fee below is required. Upon notification of acceptance to participate, those selected have 5 business days to submit payment or the acceptance may be revoked.

Participants selected for a trade mission will be expected to pay for the cost of personal expenses, including, but not limited to, international travel, lodging, meals, transportation, communication, and incidentals, unless otherwise noted. Participants will, however, be able to take advantage of U.S. Government rates for hotel rooms. In the event that a mission is cancelled, no personal expenses paid in anticipation of a mission will be reimbursed. However, participation fees for a cancelled mission will be reimbursed to the extent they have not already been expended in anticipation of the mission.

Trade mission members participate in trade missions and undertake mission-related travel at their own risk. The nature of the security situation in a given foreign market at a given time cannot be guaranteed. The U.S. Government does not make any representations or guarantees as to the safety or security of participants. The U.S. Department of State issues U.S. Government international travel alerts and warnings for U.S. citizens available at https://travel.state.gov/content/travel/en/traveladvisories/traveladvisories.html/. Any question regarding insurance coverage must be resolved by the participant and its insurer of choice.

Travel and in-person activities are contingent upon the safety and health conditions in the United States and the mission countries. Should safety or health conditions not be appropriate for travel and/or in-person activities, the Department will consider postponing the event or offering a virtual program in lieu of an in-person agenda. In the event of a postponement, the Department will notify the public and applicants previously selected to participate in this mission will need to confirm their availability but need not reapply. Should the decision be made to organize a virtual program, the Department will adjust fees, accordingly, prepare an agenda for virtual activities, and notify the previously selected applicants with the option to opt-in to the new virtual program.

Definition of Small- and Medium-Sized Enterprise

For purposes of assessing participation fees, an applicant is a small or medium-sized enterprise (SME) if it qualifies as a “small business” under the Small Business Administration's (SBA) size standards (https://www.sba.gov/document/support--table-size-standards), which vary by North American Industry Classification System (NAICS) Code. The SBA Size Standards Tool (https://www.sba.gov/size-standards) can help you determine the qualifications that apply to your company.

Mission List: (additional information about trade missions can be found at https://www.trade.gov/trade-missions).

Executive-Led Cybersecurity Business Development Mission to Taiwan, South Korea, and Japan—September 18-26, 2023

Summary

The United States Department of Commerce, International Trade Administration (ITA), is organizing an Executive-led Cybersecurity Business Development Mission to Taiwan, South Korea, and Japan, September 18-26, 2023.

The purpose of the mission is to introduce U.S. firms to East Asia's information and communication technology (ICT) security and critical infrastructure protection markets, and to assist them in finding business partners and export their products and services to the region. This trade mission will also promote the tenets and adoption of the U.S. National Institute of Standards and Technology (NIST) Cybersecurity Framework globally. The trade mission is intended to include representatives from U.S. companies and U.S. trade associations with members that provide cybersecurity and critical infrastructure protection products and services. The trade mission will visit Taiwan, South Korea, and Japan, where U.S. firms will have access to business development opportunities across East Asia. Participating firms will gain market insights, make industry contacts, solidify business strategies, and advance specific projects, with the goal of increasing U.S. exports of products and services to East Asia. The mission will include customized one-on-one business appointments with pre-screened potential buyers, agents, distributors, and joint venture partners; meetings with officials from government and authorities, as well as industry leaders; and networking events.

Cybersecurity threats exploit the increased complexity and connectivity of critical infrastructure systems, placing a company or economy's security, economy, and public safety and health at risk. Similar to financial and reputational risks, cybersecurity risk affects a company's bottom line. It can drive up costs and affect revenue. It can harm an organization's ability to innovate and to gain and maintain customers. With the ascending growth and sophistication of cyberattacks in recent years, strict compliance and unified security packages are in demand to protect the critical data, infrastructure, and safety of governments, authorities, military, public utilities, banking, financial services, ports, hospitals, and other businesses. The damaging effects of cyber threats and incidents can be felt on many levels from the business to the individual and can spill over across borders. Therefore, Taiwan, South Korea, and Japan are currently increasing resources at the public sector level, as well as at the private sector level, in order to deal with these complex cyber threats. These resources have been well utilized as is evident from the innovations and demand for cyber defense equipment and service technologies. Events in the region have also heightened the importance of improving cybersecurity protection. In 2022, malicious cyber activities disrupted Japanese government websites across various ministries, while Taiwan and South Korea continue their defense against cyberattacks.

The cybersecurity companies of the United States are among the most cutting-edge cybersecurity providers in the world. Whether it is cybersecurity products, such as network-monitoring systems or firewalls, or cybersecurity services, such as security testing and audits or cyber risk consulting, the technology providers of the United States are among the world's leaders in enterprise and consumer cybersecurity solutions. This is why U.S. cybersecurity products and services are continually in high demand overseas and why the U.S. Department of Commerce is focused on promoting U.S. cybersecurity exports around the world. The Asia-Pacific market is one of the most lucrative for U.S. cybersecurity companies.

In 2014, recognizing that national and economic security depends on the reliable functioning of critical infrastructure, NIST released the Cybersecurity Framework, consisting of voluntary guidelines for organizations to manage cybersecurity risk. NIST subsequently released an updated version in 2018 and is currently undertaking a second update. The Cybersecurity Framework, created through collaboration between industry and government, is widely adopted by organizations in the United States, as well as internationally, and is available in several languages including Spanish, Portuguese, Italian, Hebrew, Japanese, Arabic, and Bulgarian.

This trade mission will seek to also support the tenets and adoption of the NIST Cybersecurity Framework globally. While the NIST Cybersecurity Framework was created in the United States, it provides an important risk-based approach that has been adopted by industries across the globe and has influenced the way other governments have formulated their own approaches to cybersecurity risk management. Private sector stakeholders have made it clear that the global alignment of cybersecurity practices and standards is important to avoid confusion and duplication of effort. Countries and economies in Asia are currently considering approaches aligned with the NIST Cybersecurity Framework. The potential adoption of the NIST Cybersecurity Framework by organizations in healthcare, finance, and other critical infrastructure sectors across Asia can facilitate alignment, adoption, and internationalization of a common risk-based approach to managing cybersecurity risk, which provides market access opportunities in the region to U.S. firms with cybersecurity expertise and solutions.

Proposed Timetable

* Note: The final schedule and potential site visits will depend on the availability of host government, authorities and business officials; specific goals of mission participants; and ground transportation.

Sunday, September 17, 2023 | Trade Mission Participants Arrive in Taipei.
Monday, September 18, 2023 | Welcome and Taiwan Briefing; One-on-One business matchmaking appointments; Networking Reception at residence of the Deputy Director of the American Institute in Taiwan (To Be Confirmed).
Tuesday, September 19, 2023 | One-on-One business matchmaking appointments; Networking Lunch (No-Host); One-on-One business matchmaking appointments.
Wednesday, September 20, 2023 | Trade Mission Participants Travel/Arrive to Seoul.
Thursday, September 21, 2023 | Welcome and South Korea Briefing; One-on-One business matchmaking appointments; Networking Reception at Deputy Chief of Mission residence (To Be Confirmed).
Friday, September 22, 2023 | One-on-One business matchmaking appointments; Networking Lunch (No-Host); One-on-One business matchmaking appointments.
Saturday, September 23, 2023 | Trade Mission Participants Stay in Seoul or Travel to Tokyo.
Sunday, September 24, 2023 | Trade Mission Participants Arrive in Tokyo; Welcome cocktail hour with mission delegates and U.S. Embassy officials.
Monday, September 25, 2023 | Welcome and Japan Briefing; One-on-One business matchmaking appointments; Networking Reception at U.S. Embassy.
Tuesday, September 26, 2023 | Cybersecurity-related engagements and site visits in Tokyo Metropolitan Area.

Participation Requirements

All parties interested in participating in the trade mission must submit an application package for consideration by the Department of Commerce. All applicants will be evaluated on their ability to meet certain conditions and best satisfy the selection criteria as outlined above. A minimum of fifteen and maximum of twenty companies and/or trade associations will be selected to participate in the mission on a rolling basis.

Fees and Expenses

After a firm or trade association has been selected to participate on the mission, a payment to the Department of Commerce in the form of a participation fee is required. The fees are as follow:

The participation fee will be $5,900 for a small or medium-sized enterprises (SME) and $7,500 for large firms. There will be a $1,000 fee for each additional firm representative (large firm or SME).

If an applicant is selected to participate on a particular mission, a payment to the Department of Commerce in the amount of the designated participation fee is required. Upon notification of acceptance to participate, those selected have 5 business days to submit payment or the acceptance may be revoked.

Participants selected for a trade mission will be expected to pay for the cost of personal expenses, including, but not limited to, international travel, lodging, meals, transportation, communication, and incidentals, unless otherwise noted. Participants will, however, be able to take advantage of U.S. Government rates for hotel rooms. In the event that a mission is cancelled, no personal expenses paid in anticipation of a mission will be reimbursed. However, participation fees for a cancelled mission will be reimbursed to the extent they have not already been expended in anticipation of the mission.

If a visa is required to travel on a particular mission, applying for and obtaining such a visa will be the responsibility of the mission participant. Government fees and processing expenses to obtain such a visa are not included in the participation fee. However, the Department of Commerce will provide instructions to each participant on the procedures required to obtain business visas.

Trade mission members participate in trade missions and undertake mission-related travel at their own risk. The nature of the security situation in a given foreign market at a given time cannot be guaranteed. The U.S. Government does not make any representations or guarantees as to the safety or security of participants. The U.S. Department of State issues U.S. Government international travel alerts and warnings for U.S. citizens available at https://travel.state.gov/content/passports/en/alertswarnings.html. Any question regarding insurance coverage must be resolved by the participant and its insurer of choice.

Timeframe for Recruitment and Applications

Mission recruitment will be conducted in an open and public manner, including publication in the Federal Register, posting on the Department of Commerce trade mission calendar (http://export.gov/trademissions) and other internet websites, press releases to general and trade media, direct mail, notices by industry trade associations and other multiplier groups, and publicity at industry meetings, symposia, conferences, and trade shows. Recruitment for the mission will begin immediately and conclude no later than June 23, 2023. The Department of Commerce will evaluate applications and inform applicants of selection decisions on a rolling basis until the maximum number of participants has been selected. Applications received after June 23, 2023, will be considered only if space and scheduling constraints permit.

Contacts

U.S. Contact Information

Pompeya Lambrecht, Recruitment Lead, Global Cybersecurity Lead for Trade Promotion, U.S. Commercial Service Northern VA, Pompeya.Lambrecht@trade.gov, Tel: 703-8385-3753

Gemal Brangman, Project Manager, Director, Trade Events Management Task Force, Washington, DC, Gemal.Brangman@trade.gov, Tel: 202-482-3773

Asia Contact Information

U.S. Embassy—Tokyo, Ross R. Belliveau, Commercial Attache, U.S. Department of Commerce, Ross.Belliveau@trade.gov

U.S. Embassy—Seoul, Michael Kim, Commercial Attache, U.S. Department of Commerce, Michael.Kim@trade.gov

American Institute in Taiwan, Clint Brewer, Commercial Attache, U.S. Department of Commerce, Clint.Brewer@trade.gov

Gemal Brangman,
Director, ITA Events Management Task Force.

[FR Doc. 2023-12833 Filed 6-14-23; 8:45 am]

BILLING CODE 3510-DR-P